NUCLEAR REGULATORY COMMISSION

[EA-14-193; NRC-2015-0289]

In the Matter of Northern States Power Company, Minnesota

AGENCY: Nuclear Regulatory Commission.

ACTION: Confirmatory order; issuance.

SUMMARY: The U.S. Nuclear Regulatory Commission (NRC) and Northern States Power Company, Minnesota, doing business as Xcel Energy, engaged in mediation as part of the NRC's Alternative Dispute Resolution Program which resulted in a settlement agreement as reflected in the Confirmatory Order (CO) related to Xcel Energy. The purpose of the CO is to ensure that the licensee restores compliance with NRC regulations.

DATES: Effective Date: January 20, 2016

ADDRESSES: Please refer to Docket ID NRC-2015-0289 when contacting the NRC about the availability of information regarding this document. You may obtain publicly-available information related to this action using any of the following methods:

• Federal Rulemaking Web site: Go to http://www.regulations.gov and search for Docket ID NRC-2015-0289. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Kenneth Lambert, Region III, U.S. Nuclear Regulatory Commission, Lisle, Illinois, 60532; telephone: 630-810-4376, email: Kenneth.Lambert@nrc.gov.

SUPPLEMENTARY INFORMATION: The text of the Order is attached.

Dated at Lisle, Illinois this 21st day of December, 2015.
For the Nuclear Regulatory Commission.
Cynthia D. Pederson,
Regional Administrator.

Attachment—CONFIRMATORY ORDER MODIFYING LICENSE

UNITED STATES OF AMERICA

NUCLEAR REGULATORY COMMISSION

In the Matter of

Docket Nos. 50-263; 72-058

Northern States Power Company, Minnesota License No. DPR-22

(Doing business as Xcel Energy) EA-14-193

Monticello Nuclear Generating Plant

CONFIRMATORY ORDER MODIFYING LICENSE

I.

Northern States Power Company, Minnesota, doing business as Xcel Energy, (Licensee) is the holder of Reactor Operating License No. DPR-22 issued by the U.S. Nuclear Regulatory Commission (NRC or Commission) pursuant to Title 10 of the Code of Federal Regulations (10 CFR) Part 50 on September 8, 1970, and renewed on November 8, 2006. The license authorizes the operation of the Monticello Nuclear Generating Plant (Monticello) in accordance with conditions specified therein. The facility is located on the Licensee's site in Monticello, Minnesota.

This Confirmatory Order is the result of an agreement reached during an alternative dispute resolution (ADR) mediation session conducted on October 15, 2015.

II.

On December 18, 2013, the NRC Office of Investigations (OI), Region III Field Office initiated an investigation (OI Case No. 3-2014-004) to determine whether two contractor technicians at the Monticello Nuclear Generating Plant deliberately failed to perform nondestructive examinations (NDEs) on the Dry Shielded Canisters (DSCs) in accordance with procedural requirements, and to determine whether they falsified records when recording the NDE results. The results of the investigation, completed on November 13, 2014, were sent to Xcel Energy in a letter dated July 23, 2015 (ML15203B187). Based on the review of the OI investigation report the NRC determined that both contractor technicians willfully violated 10 CFR 72.158, “Control of special processes,” and 10 CFR 72.11, “Completeness and accuracy of information.” In addition, the NRC determined the licensee violated Title 10 CFR 72.154(c), “Control of purchased material, equipment, and services.”

Specifically, on October 17, 2013, an NRC inspector observed, by video display, the NDE liquid penetrant testing (PT) of the outer top cover plate weld for DSCs being conducted by a contractor technician. The inspector believed that the technician failed to comply with procedural requirements in conducting the PT. The inspector reviewed the procedure, confirmed that the PT was not being performed in accordance with the procedure, and notified Monticello management. Monticello management and the NDE contractor management reviewed the video, and concluded the PT was not performed properly. Upon further review, the NRC inspector determined that two contractor NDE technicians were involved in performing the PT examinations. These individuals were involved with examining a total of 66 welds on six DSCs.

Based on the evidence gathered in the OI investigation, the NRC determined that the two NDE contractors deliberately violated NRC requirements by failing to perform NDE PT of DSCs, a special process, in accordance with procedures by not allowing the developer to dwell for the period of time specified in procedure 12751 QP-9.202, Rev. 1, “Color Contrast Liquid Penetrant Examination using the Solvent-Removable Method.” Their actions caused the licensee to be in violation of Certificate of Compliance 1004, Amendment 10, Technical Specification 1.2.5, “DSC Dye Penetrant Tests of Closure Welds,” which was implemented by the procedure, and 10 CFR 72.158, as NDE testing, a special process, was not accomplished in accordance with the applicable standards and requirements.

The NRC further determined that the two contractors willfully violated NRC requirements by recording false information concerning developer dwell times on the PT examination report for each NDE. This caused the licensee to be in violation of 10 CFR 72.11(a), which requires information required to be maintained by the licensee to be complete and accurate in all material respects.

The NRC also determined the licensee failed to assess the effectiveness of the controls of quality by the contractors. Specifically, the licensee did not adequately monitor the work of the contractors performing PT testing on DSCs No. 11 through 16. This caused the licensee to be in violation of 10 CFR 72.154(c), “Control of purchased material, equipment, and services,” which required, in part, that licensees assess the effectiveness of the control of quality by contractors and subcontractors at intervals consistent with the importance, complexity, and quantity of the product or services.

In response to the NRC's offer, Xcel Energy requested use of the NRC ADR process to resolve differences it had with the NRC. Alternative Dispute Resolution is a process in which a neutral mediator with no decision-making authority assists the parties in reaching an agreement on resolving any differences regarding the dispute. On October 15, 2015, Xcel Energy and the NRC met in an ADR session mediated by a professional mediator, arranged through the Cornell University's Institute on Conflict Resolution.

III.

During the ADR session, a preliminary settlement agreement was reached. This Confirmatory Order is issued pursuant to the agreement reached during the ADR process. The elements of the agreement, as signed by both parties, consisted of the following:

1. The licensee shall restore compliance to 10 CFR part 72 to DSCs 11 through 16 within 5 years of the date the NRC takes final action upon the September 29, 2015, exemption request pending for DSC 16 (ML15275A023), or the exemption request is withdrawn, whichever is earlier.

2. Within 180 calendar days of the NRC's final action on the docketed exemption request dated September 29, 2015 (ML15275A023), or the date the exemption request is withdrawn, whichever is earlier, the licensee shall submit a project plan to the Director, Division of Nuclear Materials Safety (DNMS), Region III, for returning DSCs 11 through 16 to compliance to 10 CFR part 72.

3. Within 180 calendar days after submittal of the DSCs 11 through 16 project plan, Xcel Energy shall submit a letter to the Director, DNMS, Region III, regarding progress under the plan, and any non-editorial changes to the plan. A letter providing a progress update and any non-editorial plan changes shall be provided every 360 calendar days thereafter to the Director, DNMS, Region III, until the plan is completed.

4. Within 90 calendar days of the issuance date of the Confirmatory Order, Xcel Energy shall evaluate Monticello's dry fuel storage procedures and ensure the procedures require direct licensee oversight during the entire evolution of each dye penetrant test performed by contractors on DSC closure welds.

5. Within 120 calendar days of the issuance date of the Confirmatory Order, Xcel Energy shall ensure and document that all first line supervisors and above, who oversee contractors performing field work in the Xcel Energy nuclear fleet, review the circumstances and lessons learned from the events that gave rise to the Confirmatory Order.

6. Within 360 calendar days of the issuance date of the Confirmatory Order, the licensee shall assess and document the effectiveness of improvements in oversight of supplemental workers (e.g., contractors) in the Xcel Energy nuclear fleet, including the actions taken in item 5.

7. Within 540 calendar days of the issuance date of the Confirmatory Order, Xcel Energy shall develop and make a presentation based on the facts and lessons learned from the events that gave rise to the Confirmatory Order, with emphasis on corrective actions taken as a result. Xcel Energy agrees to make this presentation at an appropriate industry forum such that industry personnel across the entirety of the United States would have the opportunity to receive the material. Xcel Energy shall inform the Director, DNMS, Region III, of where the presentation will be made, and shall make the presentation materials available to the NRC for review at least 30 calendar days in advance of the presentation.

8. Within 360 calendar days of the issuance date of the Confirmatory Order, Xcel Energy shall submit an article to an industry publication, such as UxC Spent Fuel, describing the circumstances of the violation, the root and contributing causes, and the corrective actions. The licensee shall provide a draft to the Director, DNMS, Region III, at least 30 calendar days in advance of the submittal.

9. Upon completion of all terms of the Confirmatory Order, Xcel Energy shall submit to the NRC a letter discussing its basis for concluding that the Order has been satisfied.

In addition to the elements described above, Xcel Energy took the following corrective actions:

1. Xcel Energy revised its nuclear fleet Nuclear Oversight (“NOS”) and Supply Chain procedures to require the establishment of a NOS Project Oversight Plan for any Safety-Related or Augmented Quality fabrication or construction activities performed at the nuclear plant sites under a supplier's Quality Assurance (QA) Program. The NOS procedure for project oversight was also revised to address site project implementation in addition to project component fabrication, and associated project risks. Upfront planning of the level and type NOS oversight is based on those risks.

2. Xcel Energy created a nuclear fleet procedure for oversight of supplemental personnel (e.g., contractors) based upon the Institute of Nuclear Power Operations (INPO) AP-930 “Supplemental Personnel Process Description,” which includes a requirement that each incoming contract worker have a face-to-face review of station standards, expectations, and requirements with the Maintenance Manager or designee. This includes current and all future contract personnel including contract quality control (QC) inspectors.

3. Xcel Energy issued a rapid operational experience notice for this event, which prompted a review of the event by Prairie Island Nuclear Generating Plant staff and shared the event with the nuclear industry through a process called the INPO Consolidated Event System (ICES).

4. Xcel Energy reviewed its General Access Training to ensure it addresses the consequences of willful violations.

In exchange for the commitments and corrective actions taken by the licensee, the NRC agrees to the following conditions:

1. The NRC will consider the Confirmatory Order as an escalated enforcement action for a period of one year from its issuance date.

2. The NRC will refrain from issuing a Notice of Violation and a proposed imposition of a civil penalty.

This agreement is binding upon the successors and assigns of Xcel Energy.

On December 10, 2015, Xcel Energy consented to issuing this Confirmatory Order with the commitments, as described in Section V below. Xcel Energy further agreed that this Confirmatory Order is to be effective 30 calendar days after issuance of the Confirmatory Order and that it has waived its right to a hearing.

IV.

Since the licensee agreed to take additional actions to address NRC concerns, as set forth in Section III above, the NRC concluded that its concerns can be resolved through issuance of this Confirmatory Order.

I find that Xcel Energy's commitments as set forth in Section V are acceptable and necessary and conclude that with these commitments the public health and safety are reasonably assured. In view of the foregoing, I have determined that public health and safety require that Xcel Energy's commitments be confirmed by this Confirmatory Order. Based on the above and Xcel Energy's consent, this Confirmatory Order is effective 30 calendar days after issuance of the Confirmatory Order.

V.

Accordingly, pursuant to Sections 104b, 161b, 161i, 161o, 182, and 186 of the Atomic Energy Act of 1954, as amended, and the Commission's regulations in 10 CFR 2.202, 10 CFR part 50 and 10 CFR part 72, IT IS HEREBY ORDERED THAT THE ACTIONS DESCRIBED BELOW WILL BE TAKEN AT MONTICELLO NUCLEAR GENERATING PLANT AND OTHER NUCLEAR PLANTS IN XCEL ENERGY'S FLEET WHERE INDICATED AND THAT LICENSE NO. DPR-22 IS MODIFIED AS FOLLOWS WITH RESPECT TO THE ACTIONS TO BE TAKEN AT THE MONTICELLO NUCLEAR GENERATING PLANT:

1. The licensee shall restore compliance to 10 CFR part 72 to DSCs 11 through 16 within 5 years of the date the NRC takes final action upon the September 29, 2015, exemption request pending for DSC 16 (ML15275A023), or the exemption request is withdrawn, whichever is earlier.

2. Within 180 calendar days of the NRC's final action on the docketed exemption request dated September 29, 2015 (ML15275A023), or the date the exemption request is withdrawn, whichever is earlier, the licensee shall submit a project plan to the Director, Division of Nuclear Materials Safety, Region III, for returning DSCs 11 through 16 to compliance to 10 CFR part 72.

3. Within 180 days after submittal of the DSCs 11 through 16 project plan, Xcel Energy shall submit a letter to the Director, DNMS, Region III, regarding progress under the plan, and any non-editorial changes to the plan. A letter providing a progress update and any non-editorial plan changes shall be provided every 360 calendar days thereafter to the Director, DNMS, Region III, until the plan is completed.

4. Within 90 calendar days of the issuance date of the Confirmatory Order, Xcel Energy shall evaluate Monticello's dry fuel storage procedures and ensure the procedures require direct licensee oversight during the entire evolution of each dye penetrant test performed by contractors on DSC closure welds.

5. Within 120 calendar days of the issuance date of the Confirmatory Order, Xcel Energy shall ensure and document that all first line supervisors and above, who oversee contractors performing field work in the Xcel Energy nuclear fleet, review the circumstances and lessons learned from the events that gave rise to the Confirmatory Order.

6. Within 360 calendar days of the issuance date of the Confirmatory Order, the licensee shall assess and document the effectiveness of improvements in oversight of supplemental workers (e.g., contractors) in the Xcel Energy nuclear fleet, including the actions taken in item 5.

7. Within 540 calendar days of the issuance date of the Confirmatory Order, Xcel Energy shall develop and make a presentation based on the facts and lessons learned from the events that gave rise to the Confirmatory Order, with emphasis on corrective actions taken as a result. Xcel Energy agrees to make this presentation at an appropriate industry forum such that industry personnel across the entirety of the United States would have the opportunity to receive the material. Xcel Energy shall inform the Director, DNMS, Region III, of where the presentation will be made, and make the presentation materials available to the NRC for review at least 30 calendar days in advance of the presentation.

8. Within 360 calendar days of the issuance date of the Confirmatory Order, Xcel Energy shall submit an article to an industry publication, such as UxC Spent Fuel, describing the circumstances of the violation, the root and contributing causes, and the corrective actions. The licensee shall provide a draft to the Director, DNMS, Region III, at least 30 calendar days in advance of the submittal.

9. Upon completion of all terms of the Confirmatory Order, Xcel Energy shall submit to the NRC a letter discussing its basis for concluding that the Order has been satisfied.

The Regional Administrator, Region III, may, in writing, relax or rescind any of the above conditions upon demonstration by the Licensee of good cause.

VI.

Any person adversely affected by this Confirmatory Order, other than Xcel Nuclear, may request a hearing within 30 days of the issuance date of this Confirmatory Order. Where good cause is shown, consideration will be given to extending the time to request a hearing. A request for extension of time must be directed to the Director, Office of Enforcement, U.S. Nuclear Regulatory Commission, and include a statement of good cause for the extension.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007), as amended by 77 FR 46562; August 3, 2012 (codified in pertinent part at 10 CFR part 2, subpart C). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at 301-415-1677, to (1) request a digital (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange (EIE), users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene through the EIE. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time (ET) on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, any others who wish to participate in the proceeding (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's Web site at http://www.nrc.gov/site-help/e-submittals.html, by email at MSHD.Resource@nrc.gov, or by a toll-free call at (866) 672-7640. The NRC Meta System Help Desk is available between 8:00 a.m. and 8:00 p.m., ET, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket, which is available to the public at http://ehd1.nrc.gov/ehd/, unless excluded pursuant to an order of the Commission or the presiding officer. Participants are requested not to include personal privacy information, such as social security numbers, home addresses, or home phone numbers in their filings, unless an NRC regulation or other law requires submission of such information. With respect to copyrighted works, participants are requested not to include copyrighted materials in their submission, except for limited excerpts that serve the purpose of the adjudicatory filings and would constitute a Fair Use application.

If a person other than the licensee requests a hearing, that person shall set forth with particularity the manner in which his interest is adversely affected by this Confirmatory Order and shall address the criteria set forth in 10 CFR 2.309(d) and (f).

If a hearing is requested by a person whose interest is adversely affected, the Commission will issue a separate Order designating the time and place of any hearings, as appropriate. If a hearing is held, the issue to be considered at such hearing shall be whether this Confirmatory Order should be sustained.

In the absence of any request for hearing, or written approval of an extension of time in which to request a hearing, the provisions specified in Section V above shall be final 30 days after issuance of the Confirmatory Order without further order or proceedings. If an extension of time for requesting a hearing has been approved, the provisions specified in Section V shall be final when the extension expires if a hearing request has not been received.

Dated at Lisle, Illinois this 21st day of December, 2015.
For the Nuclear Regulatory Commission.
Cynthia D. Pederson
Regional Administrator.

[FR Doc. 2016-00322 Filed 1-8-16; 8:45 am]

BILLING CODE 7590-01-P